DEPARTMENT OF THE INTERIOR

Bureau of Reclamation

Agency Information Collection Activities; Proposed Revisions to a Currently Approved Information Collection; Request for Comments

AGENCY: Bureau of Reclamation, Interior.

ACTION: Notice of revisions to a currently approved information collection form (OMB No. 1006-0003).

SUMMARY: In accordance with the Paperwork Reduction Act of 1995 (44 U.S.C. 3501 et seq.), this notice announces that the following Information Collection Request (ICR) has been forwarded to the Office of Management and Budget (OMB) for review and comment: The previously-approved Right-of-Use (ROU) Application (Form 7-2540), 43 CFR part 429, OMB Control Number 1006-0003, has been significantly modified, shortened and made clearer for short-term public uses of Reclamation land, facilities, and water surfaces. The ICR describes the nature of the information collection and its expected cost and burden.

DATES: All written comments must be received on or before March 6, 2006.

ADDRESSES: You may send comments regarding the burden estimate, or any other aspect of the information collection, including suggestions for reducing the burden, to the Desk Officer for the Department of the Interior at the Office of Management and Budget, Office of Information and Regulatory Affairs, via facsimile to (202) 395-6566, or e-mail to OIRA_DOCKET@omb.eop.gov. A copy of your comments should also be directed to the Bureau of Reclamation, Attention: D-5300, P.O. Box 25007, Denver, CO 80225-0007.

FOR FURTHER INFORMATION CONTACT: For further information or a copy of the proposed ROU Application Form 7-7540 contact Marian Mather, D-5300, P.O. Box 25007, Denver, CO 80225-0007; or by telephone: (303) 445-2895.

SUPPLEMENTARY INFORMATION: In response to public comments to the Federal Register (FR) notice 70 FR 43181 (July 26, 2005) relating to the complexity of the currently-approved ROU application form, Reclamation has significantly modified, shortened, and made clearer the ROU Application Form 7-2540 to address short-term public requests to use Reclamation land, facilities, and water surfaces. The public comments were instructive to Reclamation by pointing out that, for example, the types of information needed from a boating regatta organizer would differ significantly from that needed from a construction company requesting a right-of-way for placement of a fiber optics cable. In the latter case, Reclamation will begin using the Standard Form 299 (SF 299), Application for Transportation and Utility Systems and Facilities on Federal Lands. The SF 299 requires more in-depth information from those individuals requesting approval to place and construct such infrastructure as transmission lines, telecommunications towers, or natural gas pipelines, or for other long-term uses such as grazing and farming. The use of this form is in compliance with the Presidential Memorandum, subject: Improving Rights of-Way Management Across Federal Lands to Spur Broadband Deployment, dated March 26, 2004. Requesting the more detailed information from an organizer of a short-term event would be inappropriate and not be useful to Reclamation in determining whether to grant the request. Thus the decision was made, after publishing of the July 2005 FR notice relating to the renewal of a single ROU form, to significantly modify the Form 7-2540 so that appropriate information was requested from short-term ROU applicants.

Title: Bureau of Reclamation Right-of-Use Application, 43 CFR 429.

Abstract: Reclamation is responsible for approximately 8 million acres of land which directly support Reclamation's Federal water projects in the 17 western states. Individuals or entities wanting to use Reclamation's lands, facilities, and water surfaces must submit an application to gain permission for such uses based on the type of use for either long-term or short-term activities. Examples of short-term activities are recreation and sporting events, and commercial filming and photography. Reclamation will review and evaluate these ROU applications and determine whether the granting of the requested use is compatible with Reclamation's present or future uses of the water and related project lands, facilities, or water surfaces.

Frequency: Each time a short-term right-of-use is requested.

Respondents: Individuals, corporations, companies, and State and local entities that want to use Reclamation lands, facilities, or water surfaces.

Estimated Annual Total Number of Respondents: 175.

Estimated Number of Responses per Respondent: 1.0.

Estimated Total Number of Annual Responses: 175.

Estimated Total Annual Burden on Respondents: 350 hours.

Estimated Completion Time Per Respondent: 2 hours.

Non-hour Cost Burden: Processing fee of $200 per ROU Application.

Public Comments: Notice was given in the Federal Register on July 26, 2005 (70 FR 43181, July 26, 2005) to solicit public comments on Form 7-2540, which was reworked in preparation for public comment. Four individuals commented on this form and all comments were from an organized recreation activity perspective from the area of the New Melones Reservoir in Reclamation's Central Valley Project. The following are the paraphrased public comments and Reclamation's responses:

Comment 1: All individuals who commented were specifically critical of charging a $200 application fee claiming that the application fee is “outrageous and not economically feasible” and will force special events to take their activities elsewhere. Also, there were three comments which stated, in effect, that there is no “set rate” for the charging of (rental) fees and it appears as if Reclamation can [arbitrarily] determine such charges.

Response: It is important to understand that the application fee and the value of the right of use (i.e., rental fee) are not established by this form. This form only states what fees are required according to the existing 1983 regulation, 43 CFR part 429, specifically § 429.6(b) for the application fee (referred to as initial deposit fee) and section 429.6(f) for rental charges. The application fee must equal Reclamation's costs of administering the resultant ROU authorizations, as required by 31 U.S.C. 9701 and OMB Circular A-25. As with any applicable regulation, Reclamation does not have the latitude to arbitrarily waive the application fee as it is required by this regulation.

Comment 2: The form is complicated, lengthy, and difficult to fill out and understand.

Response: Reclamation agrees that the form was too difficult, lengthy, and complicated for short-term recreational uses envisioned by the commenters. This comment became the impetus behind Reclamation's decision to completely revise the ROU form referenced in the FR Notice. The reason for the complete revision was that the Form 7-2540 cited in the FR Notice was really geared more for longer term uses, such as broadband deployment activities, pipeline placement and construction, and grazing or farming leases. In addition, Reclamation became aware of the recent requirement for all bureaus to use the SF 299 instead of other forms for such activities. Thus, the issue of what form should be used to collect information for long term uses was resolved with the decision to use the SF 299.

As a result of the public comments, Reclamation's Form 7-2540 was revised to target shorter term uses such as special recreation events, organized gatherings for special events, sporting events, and commercial filming. The resulting proposed short-term ROU Application Form 7-2540 is a significantly simpler, one-page form with an additional page of instructions, which should provide ease of understanding and facilitate completion for individuals requesting such uses of Reclamation's lands, facilities, and water surfaces.

Comment 3: Two hours to complete the form is unacceptable.

Response: Trying to keep both short- and long-term uses under Reclamation's previously approved Form 7-2540 caused confusion and Reclamation agrees with the commenters that it did make the form appear more onerous and lengthy to fill out. To facilitate completion of the revised ROU Application Form 7-2540 for short-term uses, it will be made available on the Internet where it can be downloaded and filled out on a personal computer or printed out for manual completion. The hours spent by the applicants to complete the application should not exceed 2 hours on average, depending upon the type of backup materials needed.

Comment 4: Fishing tournaments and boat regattas are not in the same category as construction of transmission lines.

Response: Reclamation agrees with this comment. In response, Reclamation has completely revised the previous Form 7-2540 to meet the needs of short-term users, such as those requesting permission to hold special events, like fishing tournaments and boating regattas.

Comment 5: There is no set size of event which triggers the use of the application.

Response: The size of the event does not matter as to whether a ROU Application Form 7-2540 is required. Section 43 CFR 429.6 requires that “The applicant for a right-of-use over land or estate in land, in the custody and control of Reclamation, must make application to the * * * affected [Reclamation] field office. * * *” In contrast, the ROU Application Form 7-2540 does not need to be completed for day-to-day individual use of Reclamation's land, facilities, or water surfaces as long as those uses do not exclusively limit other users from enjoying the same area and do not interfere with or threaten project operations.

Comment 6: There is no time limit for returning any remaining deposit of application fee.

Response: The comment is a reasonable concern. The new, proposed ROU Application Form 7-2540 has now been modified to include a statement that a refund of any unused initial deposit fee will be completed within 30 days, provided that proper banking information for electronic funds transfer has been provided in a timely manner so as to facilitate such refund. Should their ROU request be denied, contact will be made with the applicant to gather banking information necessary to process their refund. Upon receipt of this information, the refund of any unused initial deposit fee will then be completed within 30 days.

Comment 7: One individual commented that Reclamation may ask for a “deposit fee of $200, and then says it may refund a part of that, or ask for more, after they decide how much the value of the right-of-use is, based on an appraisal.” (emphasis added)

Response: As discussed in detail in Reclamation's responses to comment 1 above, there are two fees or charges associated with an approved ROU Application Form 7-2540. Both the fee and rental charges are authorized and required by 43 CFR part 429. The first fee is referred to as an initial application fee (please refer to Reclamation's response to comment 6 above with regard to the conditions associated with a refund of an application fee). Reclamation may ask for additional monies for the initial application fee ONLY if the administrative costs of actually getting to the point of approving the application exceeds the initial $200 application fee. The commenter is incorrect to assume that asking the applicant for more money to cover Reclamation's administrative costs is “based on an appraisal” of the ROU; rather, it is based only on Reclamation's estimated costs of approving the applicant's request.

The second required charge is the cost to the applicant for the rental charge or value of the authorized ROU. This rental charge is based on an appraisal or other acceptable means of establishing the value of permitting the applicant to use Federal lands or water surfaces (see 43 CFR 429.3).

Comment 8: House Rule (H.R.) 4818 states that 80 percent of the use fees must be spent on much-needed improvements at a local level. We are concerned with how Reclamation will decide the fees, and who will make the decision.

Response: The renewal of the ROU application at issue here has nothing to do with H.R. 4818. The initial application fees cover Reclamation's costs of reviewing and granting the ROU. The monies collected from the rental charges are credited in accordance with existing Federal reclamation law and are statutorily not available for direct improvements at the local level. Again, these application fees and rental charges are authorized by an existing regulation 43 CFR part 429 and are independent of and not affected by H.R. 4818.

Comment 9: One comment requested a 90-day extension to solicit additional comments.

Response: This suggestion cannot be accommodated. However, the public is given an additional 30 days to respond to this second FR Notice. Individuals wishing to comment will direct their comments directly to the OMB at the address provided in this notice. Individuals should request a copy of the ROU Application Form 7-2540 from the Reclamation staff listed in this notice.

Public comments are invited on the modified ROU Application Form 7-2540 as to:

(a) Whether the proposed information collection is necessary for the proper performance of Reclamation's functions to manage and operate Federal water projects and their associated lands, facilities, and water surfaces, including whether the information will have practical use;

(b) The accuracy of the burden estimate for the proposed collection of information, including the validity of the methodology and assumptions used;

(c) Ways to enhance the quality, usefulness, and clarity of the information to be collected; and

(d) Ways to minimize the burden of the information collection on respondents, including the use of appropriate automated, electronic, mechanical, or other forms of information technology.

An agency may not conduct or sponsor, and a person is not required to respond to a collection of information unless it displays a currently valid OMB control number. Reclamation will display a valid OMB control number on the ROU Application Form 7-2540.

OMB has up to 60 days to approve or disapprove this information collection, but may respond after 30 days; therefore, public comment should be submitted to OMB within 30 days in order to assure maximum consideration.

Department of the Interior's practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: January 25, 2006.
Roseann Gonzales,
Director, Office of Program and Policy Services, Denver Office.

[FR Doc. E6-1398 Filed 2-1-06; 8:45 am]

BILLING CODE 4310-MN-P